CONSUMER PRODUCT SAFETY COMMISSION

Sunshine Act Meeting

Federal Register Citation of Previous Announcement: Vol. 66, No. 100, Wednesday, May 23, 2001, page 28426.

Previously Announced Time and Date of Meeting: 10:00 a.m., Thursday, May 31, 2001.

Changes in Meeting: The Commission briefing on the Mid-Year Review for fiscal year 2001 is canceled.

Agenda: For a recorded message containing the latest agenda information, call (301) 504-0709.

Contact Person for Additional Information: Sadye E. Dunn, Office of the Secretary, 4330 East West Highway., Bethesda, MD 20207 (301) 504-0800.

Dated: May 25, 2001.
Sadye E. Dunn,
Secretary.

[FR Doc. 01-13696 Filed 5-25-01; 2:37 pm]

BILLING CODE 6355-01-M